INTERNATIONAL TRADE COMMISSION

[USITC SE-07-014]

Government in the Sunshine Act Meeting Notice

Agency Holding the Meeting: United States International Trade Commission.

Time and Date: August 10, 2007 at 11 a.m.

Place: Room 101, 500 E Street, SW., Washington, DC 20436, Telephone: (202) 205-2000.

Status: Open to the public.

Matters to be Considered: 1. Agenda for future meetings: none.

2. Minutes.

3. Ratification List.

4. Inv. Nos. 701-TA-449 and 731-TA-1118-1121 (Preliminary) (Light-Walled Rectangular Pipe and Tube from China, Korea, Mexico, and Turkey)—briefing and vote. (The Commission is currently scheduled to transmit its determination to the Secretary of Commerce on or before August 13, 2007; Commissioners' opinions are currently scheduled to be transmitted to the Secretary of Commerce on or before August 20, 2007.)

5. Inv. Nos. 701-TA-450 and 731-TA-1122 (Preliminary) (Laminated Woven Sacks from China)—briefing and vote. (The Commission is currently scheduled to transmit its determination to the Secretary of Commerce on or before August 13, 2007; Commissioners' opinions are currently scheduled to be transmitted to the Secretary of Commerce on or before August 20, 2007.)

6. Outstanding action jackets: None.

In accordance with Commission policy, subject matter listed above, not disposed of at the scheduled meeting, may be carried over to the agenda of the following meeting.

Issued: July 26, 2007.
By order of the Commission.
William R. Bishop,
Hearings and Meetings Coordinator.

[FR Doc. E7-14711 Filed 7-27-07; 8:45 am]

BILLING CODE 7020-02-P